DEPARTMENT OF THE INTERIOR

Minerals Management Service

Agency Information Collection Activities: Submitted for Office of Management and Budget (OMB) Review; Comment Request

AGENCY: Minerals Management Service (MMS), Interior.

ACTION: Notice of extension and revision of information collection forms.

SUMMARY: To comply with the Paperwork Reduction Act of 1995 (PRA), we are notifying the public that we have submitted to OMB for review and approval the revised forms MMS-123 and MMS-123S, and the revised and renamed forms MMS-124, MMS-125, and MMS-133. The modifications are an integral part of the new “E-Forms Permit Process” that we are developing to provide an electronic option for drilling and well permitting and information submission.

DATE: Submit written comments by September 16, 2002.

ADDRESSES: You may submit comments directly to the Office of Information and Regulatory Affairs, OMB, Attention: Desk Officer for the Department of the Interior (reference appropriate OMB control number for the form you are commenting on), 725 17th Street, NW., Washington, DC 20503. Mail or hand-carry a copy of your comments to the Department of the Interior; Minerals Management Service; Attention: Rules Processing Team; Mail Stop 4024; 381 Elden Street; Herndon, Virginia 20170-4817. If you wish to E-mail comments to MMS, the address is: rules.comments@MMS.gov. Reference the appropriate OMB control number in your subject line. Include your name and return address in your message and mark it for return receipt.

FOR FURTHER INFORMATION CONTACT: Alexis London, Rules Processing Team, Engineering and Operations Division, telephone (703) 787-1600.

SUPPLEMENTARY INFORMATION: Titles—OMB Control Numbers: For the renamed forms, the new titles are listed and the current titles are shown in parenthesis.

Form MMS-123, Application for Permit to Drill (APD)—1010-0044.

Form MMS-123S, Supplemental APD Information Sheet—1010-0131.

Form MMS-124, Application for Permit to Modify (APM) (replaces Sundry Notices and Reports on Wells)—1010-0045.

Form MMS-125, End of Operations Report (replaces Well Summary Report)—1010-0046.

Form MMS-133, Well Activity Report (replaces Weekly Activity Report)—1010-0132.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner which is consistent with the need to make such resources available to meet the Nation's energy needs as rapidly as possible; to balance orderly energy resource development with protection of human, marine, and coastal environments; to ensure the public a fair and equitable return on the resources of the OCS; and to preserve and maintain free enterprise competition.

This notice pertains to the previously listed MMS forms that are used to submit information required under 30 CFR part 250, subpart D, Drilling Operations; subpart E, Well-Completion Operations; subpart F, Well-Workover Operations; subpart P, Sulphur Operations; and the new subpart Q, Decommissioning Activities. Responses are mandatory. No questions of a “sensitive” nature are asked. MMS will protect proprietary information according to 30 CFR 250.196 (Data and information to be made available to the public), 30 CFR part 252 (OCS Oil and Gas Information Program), and the Freedom of Information Act (5 U.S.C. 552) and its implementing regulations (43 CFR part 2).

On May 1, 2002, we published a Federal Register notice (67 FR 21718) announcing that we were renaming and revising the forms. As required by the PRA, the notice explained why we collect and how we use the information on each form. The notice provided the required 60-day comment period, detailed the changes to the forms, and published the draft forms as appendices.

We explained that to implement the Government Paperwork Elimination Act and to streamline data collection, MMS must develop systems to provide electronic options for lessees and operators to use in submitting information and requesting approvals. This year, we expect to begin pilot testing the electronic submission of drilling and well information in a new “E-Forms Permit Process.” In developing this system, we have determined that some revisions are needed to the drilling and well information forms discussed in this notice. The new names on three of the forms and changes to the paper forms are intended to acquaint the users with, and duplicate as closely as possible, the E-Forms Permit Process, which we anticipate will be fully implemented in FY 2003. Although initially the E-Forms Permit Process will be an alternative to submitting the paper forms, we expect that eventually it will eliminate the paper forms.

In response to the May 1 Federal Register notice, we received comments from the Offshore Operators Committee (OOC) which represents 107 member companies, both large and small, involved in the exploration, drilling, and production of oil and gas on the OCS. In addition, to resolve some of the issues and address concerns, we held discussions with the OOC committee members who reviewed the forms and who will most likely be involved in pilot testing the E-Forms Permit Process. We received no comments from individual oil and gas companies. We did receive comments from three service companies that do business with the offshore oil and gas companies: Energy Graphics, Inc., IHS Energy Group Information Services, and E & P Datasmith. Energy Graphics and IHS Energy had minimal comments. E & P Datasmith provided several comments and suggestions but also requested clarification of some data elements or posed questions. We have sent a separate response to this company to provide clarification and respond to the questions. The following discusses the general comments and our responses.

Many of the comments from the OOC and E & P Datasmith were more in the form of requesting clarification on some of the data elements. It was suggested that definitions be supplied on the forms or in instructions for completing the forms. Based on the comments, where appropriate, we did clarify data elements on the forms. To accommodate other clarifications that did not lend themselves to making changes to the forms, MMS is revising the “Field Operations Reporters Handbook,” which is the instructional guide to filling out the current forms. It will be updated to reflect the changes to these forms and available concurrent with issuing the new forms.

Both OOC and E & P Datasmith commented on the proposed change to reporting in North American Datum (NAD) 83 versus NAD 27 values. The OOC commented that reporting in NAD 83 format for well location coordinates should be optional in order to maintain consistency between well permitting forms and other required documents that reference NAD 27 coordinates. E & P Datasmith was not opposed to reporting in NAD 83 reference values but suggested some guidance to avoid potential database problems and misrepresentations. MMS will require NAD 83 information only in the case of drilling a new well or sidetrack. For any drilling operation, directional information is normally provided and the respondent should be able to provide that information in NAD 83 format with little difficulty. Information in NAD 27 format will be required on the location plat submitted with the form MMS-123. The MMS will do the conversion internally and verify the location. To accommodate the comments and further eliminate duplicate data elements among the forms, we eliminated directional information data elements on form MMS-124 and provided the option for reporting in either NAD 27 or NAD 83 on form MMS-125.

Energy Graphics and IHS Energy commented that certain data elements that were eliminated from the form MMS-123 as duplicative with form MMS-123S, previously contained information available to the general public. They were concerned that the information would no longer be available. To accommodate this concern, a “public information” copy of the form MMS-123S will be available the same as with form MMS-123.

IHS Energy wanted MMS to retain the eliminated data element for “field name” on the forms so that they can tell whether or not the well is a “wildcat” and what the new field name will be if there is a new discovery. We did not retain this data element as it is not used in the permit approval process. However, the information is available to the public. MMS assigns field names and enters the results into a data base. The list is updated monthly and the public can access the data base from the MMS internet site or from the MMS regional Public Information Office.

Based on our review of the comments, we have finalized the forms for submission to OMB for approval. The changes between the final versions and the proposed versions published for comment are minimal. Both the proposed versions and the final forms include changes to renumber the data fields on all forms, eliminate some data fields that were either duplicative or no longer needed, rename some sections and data fields, relocate data fields from one form to another, and add some data fields. The final forms are attached as appendices 1-5 to this notice.

Frequency: Forms MMS-123, MMS-123S, MMS-124, and MMS-125 are on occasion; form MMS-133 is daily or weekly by region.

Estimated Number and Description of Respondents: Approximately 130 Federal OCS oil and gas lessees.

Estimated Reporting and Recordkeeping “Hour” Burden: We estimate the following burdens for submitting the paper copies of these revised forms. It should be recognized that when the new E-Forms Permit Process is fully implemented, we expect it will reduce burden hours. However, these anticipated burden reductions are not yet determined, as they will depend on the upcoming pilot testing.

Form No. | Hour burden per form | Estimated annual No. of forms | Total annual burden
MMS-123 | 2½ | 1,315 | 3,288
MMS-123S | 1½ | 1,315 | 1,973
MMS-124 | 1¼ | 13,570 | 16,963
MMS-125 | 1 | 3,230 | 3,230
MMS-133 | 1 | 10,000 | 10,000

Estimated Reporting and Recordkeeping “Non-Hour Cost” Burden: We have identified no “non-hour cost” burdens associated with the subject forms.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

In addition to publishing the required Federal Register notice previously discussed to comply with the public consultation process, the PRA statement on the current forms and at 30 CFR 250.199 explain that MMS will accept comments at any time on the information collection burden of our regulations and associated forms. We display the OMB control number and provide the address for sending comments to MMS.

If you wish to comment in response to this notice, you may send your comments to the offices listed under the ADDRESSES section of this notice. OMB has up to 60 days to approve or disapprove the information collection but may respond after 30 days. Therefore, to ensure maximum consideration, OMB should receive public comments by September 16, 2002.

Public Comment Policy: Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: August 8, 2002.
John V. Mirabella,
Acting Chief, Engineering and Operations Division.

BILLING CODE 4310-MR-P

[FR Doc. 02-20787 Filed 8-15-02; 8:45 am]

BILLING CODE 4310-MR-C